SOCIAL SECURITY ADMINISTRATION

[Docket No: SSA-2018-0069]

Agency Information Collection Activities: Proposed Request and Comment Request

The Social Security Administration (SSA) publishes a list of information collection packages requiring clearance by the Office of Management and Budget (OMB) in compliance with Public Law 104-13, the Paperwork Reduction Act of 1995, effective October 1, 1995. This notice includes an extension and revisions of OMB-approved information collections, and one new information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov, or you may submit your comments online through www.regulations.gov, referencing Docket ID Number [SSA-2018-0069].

I. The information collections below are pending at SSA. SSA will submit them to OMB within 60 days from the date of this notice. To be sure we consider your comments, we must receive them no later than February 25, 2019. Individuals can obtain copies of the collection instruments by writing to the above email address.

1. Employer Verification of Records for Children Under Age Seven—20 CFR 404.801-404.803, 404.821-404.822—0960-0505. SSA discovered as many as 70 percent of the wage reports we receive for children under age seven are actually the earnings of someone other than the child. To ensure we credit the correct person with the reported earnings, SSA verifies wage reports for children under age seven with the children's employers before posting to the earnings record. SSA uses Form SSA-L3231-C1, Request for Employer Information, for this purpose. The respondents are employers who report earnings for children under age seven.

Type of Request: Revision of an OMB-approved information collection.

Modality of completion | Number of respondents | Frequency of response | Average burden per response (minutes) | Estimated total annual burden (hours)
SSA-L3231-C1 | 11,823 | 1 | 10 | 1,971

2. Request for Reinstatement (Title XVI)—20 CFR 416.999-416.999d—0960-0744. SSA uses Form SSA-372 to: (1) Inform previously entitled beneficiaries of the expedited reinstatement (EXR) requirements of Supplemental Security Income (SSI) payments under Title XVI of the Social Security Act (Act); and (2) document their requests for EXR. SSA requires this application for reinstatement of benefits for respondents to obtain SSI disability payments for EXR. When an SSA claims representative learns of individuals whose medical conditions no longer permit them to perform substantial gainful activity as defined in the Act, the claims representative gives the form to the previously entitled individuals (or mails it to those who request EXR over the phone). SSA employees collect this information whenever an individual files for EXR payments. The respondents are applicants for EXR of SSI disability payments.

Type of Request: Revision of an OMB approved information collection.

Modality of completion | Number of respondents | Frequency of response | Average burden per response (minutes) | Estimated total annual burden (hours)
SSA-372 | 2,000 | 1 | 2 | 67

II. SSA submitted the information collections below to OMB for clearance. Your comments regarding these information collections would be most useful if OMB and SSA receive them 30 days from the date of this publication. To be sure we consider your comments, we must receive them no later than January 25, 2019. Individuals can obtain copies of the OMB clearance packages by writing to OR.Reports.Clearance@ssa.gov.

1. The Department of the Treasury's Pay.gov Collection Application for Benefit Overpayments—20 CFR 404.501, 404.502, 404.521, and 404.527—0960-NEW. SSA will use the new internet Pay.gov Application for Overpayments to offer a new repayment option to beneficiaries and recipients to recover overpayments they incurred. Pay.gov is an online collection portal developed and maintained by the Department of the Treasury (Treasury). The internet remittance portal will offer beneficiaries and recipients another option to repay overpayments via credit card; debit card; and automated clearing house (ACH). The SSA application located on SocialSecurity.gov will request the overpaid individuals' Social Security Numbers (SSN) and dollar amount they wish to repay on their overpayment prior to sending them to Treasury's Pay.gov application which will request and process the payment information on SSA's behalf. The information SSA will collect is used to reconcile the Pay.gov transactions, and update the overpaid individuals' balances on their records. The respondents are individuals who have Title II or XVI overpayments, and who wish to voluntarily repay the overpayment online through SocialSecurity.gov.

Type of Request: Request for a new information collection.

Modality of completion | Number of respondents | Frequency of response | Number of responses | Average burden per response (minutes) | Estimated total annual burden (hours)
Internet Application for Pay.gov | 424,126 | 12 | 5,089,512 | 10 | 848,252

2. Surveys in Accordance with E.O. 12862 for the Social Security Administration—0960-0526. Under the auspices of Executive Order 12862, Setting Customer Service Standards, SSA conducts multiple customer satisfaction surveys each year. These voluntary customer satisfaction assessments include paper, internet, and telephone surveys; mailed questionnaires; and customer comment cards. The purpose of these questionnaires is to assess customer satisfaction with the timeliness, appropriateness, access, and overall quality of existing SSA services and proposed modifications or new versions of services. The respondents are recipients of SSA services (including most members of the public), professionals, and individuals who work on behalf of SSA beneficiaries.

Type of Request: Extension of an OMB-approved information collection.

| Number of respondents (burden for all activities within that year) | Frequency of response | Range of response times (minutes) | Burden (burden for all activities within that year; reported in hours)
Year 1 | 5,843,298 | 1 | 3-30 | 1,004,460
Year 2 | 5,868,843 | 1 | 3-30 | 1,371,074
Year 3 | 5,949,054 | 1 | 3-30 | 1,012,482
Totals | 17,661,195 |  |  | 3,388,016

3. Pain Report Child—20 CFR 404.1512 and 416.912—0960-0540. Before SSA can make a disability determination for a child, we require evidence from SSI applicants or claimants to prove their disability. Form SSA-3371-BK provides disability interviewers, and SSI applicants or claimants in self-help situations, with a convenient way to record information about claimants' pain or other symptoms. The State disability determination services adjudicators and administrative law judges then use the information from Form SSA-3371-BK to assess the effects of symptoms on function for purposes of determining disability under the Act. The respondents are applicants for, or claimants of, SSI payments.

Type of Request: Revision of an OMB-approved information collection.

Modality of completion | Number of respondents | Frequency of response | Average burden per response (minutes) | Estimated total annual burden (hours)
SSA-3371 | 250,000 | 1 | 15 | 62,500

4. Replacement of Forms SSA-1099/SSA-1042S—20 CFR 401.45—0960-0583. Title II beneficiaries use Forms SSA-1099 and SSA-1042S, Social Security Benefit Statement, to determine if their Social Security benefits are taxable, and the amount they need to report to the Internal Revenue Service. In cases where the original forms are unavailable (e.g., lost, stolen, mutilated), an individual may use SSA's automated telephone application to request a replacement SSA-1099 and SSA-1042S. SSA uses the information from the automated telephone requests to verify the identity of the requestor and to provide replacement copies of the forms. SSA accepts information in other ways, however; the automated telephone options reduce requests to the National 800 Number Network (N8NN) and visits to local Social Security field offices (FO). The respondents are Title II beneficiaries who wish to request a replacement SSA-1099 or SSA-1042S via telephone.

Type of Request: Revision of an OMB-approved information collection.

Modality of completion | Number of respondents | Frequency of response | Average burden per response (minutes) | Estimated total annual burden (hours)
Automated Telephone Requestors | 238,286 | 1 | 2 | 7,943
N8NN | 458,442 | 1 | 3 | 22,922
Calls to local FOs | 870,811 | 1 | 3 | 43,541
Other (program service centers) | 69,207 | 1 | 3 | 3,460
Totals | 1,636,746 |  |  | 77,866

5. The Ticket to Work and Self-Sufficiency Program—20 CFR 411—0960-0644. SSA's Ticket to Work (TTW) Program transitions Social Security Disability Insurance (SSDI) and SSI recipients toward independence by allowing them to receive Social Security payments while maintaining employment under the auspices of the program. SSA uses service providers, called Employment Networks (ENs), to supervise participant progress through the stages of TTW Program participation, such as job searches and interviews; progress reviews; and changes in ticket status. ENs can be private for-profit and nonprofit organizations, as well as state vocational rehabilitation agencies (VRs). SSA and the ENs utilize the TTW program manager to operate the TTW Program and exchange information about participants. For example, the ENs use the program manager to provide updates on tasks such as selecting a payment system, or requesting payments for helping the beneficiary achieve certain work goals. Since the ENs are not PRA-exempt, the multiple information collections within the TTW program manager require OMB approval. Most of the categories of information are necessary for SSA to: (1) Comply with the Ticket to Work legislation; and (2) provide proper oversight of the program. SSA collects this information through several modalities, including forms, electronic exchanges, and written documentation. The respondents are the ENs or state VRs, SSDI beneficiaries, and blind or disabled SSI recipients working under the auspices of the TTW Program.

Type of Request: Revision of an OMB-approved information collection.

Modality of completion | Number of respondents | Frequency of response | Average burden per response (minutes) | Estimated total annual burden (hours)
(a) 20 CFR 411.140(d)(2)—Interactive Voice Recognition Telephone | 6,428 | 1 | 2.5 | 268
(a) 20 CFR 411.140(d)(2)—Portal | 25,713 | 1 | 1.25 | 536
(a) 20 CFR 411.140(d)(3); 411.325(a); 411.150(b)(3)—SSA-1365 | 948 | 1 | 15 | 237
(a) 20 CFR 411.140(d)(3); 411.325(a); 411.150(b)(3)—SSA-1365 Portal | 3,792 | 1 | 11 | 695
(a) 20 CFR 411.140(d)(3); 411.325(a); 411.150(b)(3)—SSA-1370 | 21,600 | 1 | 60 | 21,600
(a) 20 CFR 411.140(d)(3); 411.325(a); 411.150(b)(3)—SSA-1370 Portal | 5,868 | 1 | 10 | 978
(a) 20 CFR 411.166; 411.170(b)—Electronic File Submission | 40,324 | 1 | 5 | 3,360
(b) 20 CFR 411.145; 411.325 | 2,494 | 1 | 15 | 624
(b) 20 CFR 411.145; 411.325—Portal | 7,481 | 1 | 11 | 1,372
(b) 20 CFR 411.535(a)(1)(iii)—Data Sharing/Portal | 8,505 | 1 | 5 | 709
(c) 20 CFR 411.192(b)&(c) | 6 | 1 | 30 | 3
(c) 20 CFR 411.200(b)—SSA-1375 | 120,000 | 1 | 15 | 30,000
(c) 20 CFR 411.200(b)—Portal | 64,824 | 1 | 5 | 5,402
(c) 20 CFR 411.210(b) | 41 | 1 | 30 | 21
(c) 20 CFR 411.200(b) Wise Webinar Registration Page | 4,812 | 1 | 3 | 241
(d) 20 CFR 411.365; 411.505; 411.515 | 6 | 1 | 10 | 1
(e) 20 CFR 411.325(d); 411.415* | 1 | 1 | 480 | 8
(f) 20 CFR 411.575—SSA-1389; SSA-1391; SSA-1398; SSA-1399 | 2,805 | 1 | 40 | 1,870
(f) 20 CFR 411.575—Portal | 42,075 | 1 | 22 | 15,428
(f) 20 CFR 411.560—SSA-1401 | 100 | 1 | 20 | 33
(g) 20 CFR 411.325(f) | 1,371 | 1 | 45 | 1,028
(h) 20 CFR 411.435; 411.615; 411.625 | 2 | 1 | 120 | 4
(i) 20 CFR 411.320—SSA-1394 | 52 | 1 | 10 | 9
(i) 20 CFR 411.320—SSA-1394 Portal | 158 | 1 | 5 | 13
Totals | 359,406 |  |  | 84,440
* Note: We have not received any responses since 2011.

6. Promoting Opportunity Demonstration—0960-0809. Section 823 of the Bipartisan Budget Act of 2015 required SSA to carry out the Promoting Opportunity Demonstration (POD) to test a new benefit offset formula for SSDI beneficiaries. Therefore, SSA is undertaking POD, a demonstration to evaluate the affect the new policy will have on SSDI beneficiaries and their families in several critical areas. We previously obtained OMB approval for this demonstration, and are in the midst of implementing the project. In this information collection request, we are seeking approval to add new questions to our follow-up surveys. Respondents are SSDI beneficiaries, who will provide written consent before agreeing to participate in the study and before we randomly assign them to one of the study treatment groups.

Note: We revised the burden information for this collection since we published the first Federal Register Notice on October 22, 2018 at 83 FR 53352. As part of our revisions to this collection, we are replacing the End of the Year Reporting Form with a new version which we will pre-fill with annual information based on the respondents' monthly earnings reporting. Since we will not require respondents to submit the new End of Year Reporting documentation unless they need to make corrections, we are updating the burden accordingly.

Type of Request: Revision of an OMB-approved information collection.

Modality of completion | Number of respondents | Frequency of response | Number of responses | Average burden per response (minutes) | Estimated total annual burden (hours)
Informed Consent Form | 16,500 | 1 | 16,500 | 10 | 2,750
Baseline Survey | 16,500 | 1 | 16,500 | 20 | 5,500
12-Month Follow Up Survey | 6,000 | 1 | 6,000 | 32 | 3.200
24-Month Follow Up Survey | 12,000 | 1 | 12,000 | 27 | 5,400
Interviews with Site Staff | 40 | 4 | 160 | 66 | 176
Onsite Audit of Sample of Case Files | 8 | 2 | 16 | 20 | 5
Semi-Structured Interviews with Treatment Group Subjects | 144 | 1 | 144 | 60 | 144
Monthly Earnings and Impairment-Related Expenses Reporting Form (Paper) | 1,820 | 12 | 21,840 | 10 | 3,640
Monthly Earnings and Impairment-Related Expenses Reporting Form (Internet) | 780 | 12 | 9,360 | 5 | 780
End of Year Reporting Documentation | 2,615 | 1 | 2,615 | 8 | 348
Totals | 56,407 |  | 85,135 |  | 21,943

7. Protecting the Public and Our Personnel To Ensure Operational Effectiveness (RIN 0960-AH35), Regulation 3729I—20 CFR 422.905, 422.906—0960-0796. SSA published regulations for the process we follow when we restrict individuals from receiving in-person services in our field offices and provide them, instead, with alternative services. We published these rules to create a safer environment for our personnel and members of the public who use our facilities, while ensuring we continue to serve the American people with as little disruption to our operations as possible. Under our regulations at 20 CFR 422.905, an individual for whom we restrict access to our facilities has the opportunity to appeal our decision within 60 days of the date of the restrictive access and alternative service notice. To appeal, restricted individuals must submit a written request stating why they believe SSA should rescind the restriction and allow them to conduct business with us on a face-to-face basis in one of our offices. There is no printed form for this request; rather, restricted individuals create their own written statement of appeal, and submit it to a sole decision-maker in the regional office of the region where the restriction originated. The individuals may also provide additional documentation to support their appeal. Under 20 CFR 422.906, if the individual does not appeal the decision within the 60 days; if we restricted the individual prior to the effective date of this regulation; or if the appeal results in a denial, the individual has another opportunity to request review of the restriction after a three-year period. To submit this request for review, restricted individuals may re-submit a written appeal of the decision. The same criteria apply as for the original appeal: (1) It must be in writing; (2) it must go to a sole decision-maker in the regional office of the region where the restriction originated for review; and (3) it may accompany supporting documentation. We make this periodic review available to all restricted individuals once every three years. Respondents for this collection are individuals appealing their restrictions from in-person services at SSA field offices.

Type of Request: Extension of an OMB-approved information collection.

Regulation section | Number of respondents | Frequency of response | Average burden per response (minutes) | Estimated total annual burden (hours)
20 CFR 422.905 | 75 | 1 | 15 | 19
20 CFR 422.906 | 75 | 1 | 20 | 25
Totals | 150 |  |  | 44

Dated: December 18, 2018.
Naomi Sipple,
Reports Clearance Officer, Social Security Administration.

[FR Doc. 2018-27767 Filed 12-21-18; 8:45 am]

BILLING CODE 4191-02-P